DEPARTMENT OF TRANSPORTATION

Federal Aviation Administration

14 CFR Part 39

[Docket No. FAA-2006-24018; Directorate Identifier 2006-CE-15-AD]

RIN 2120-AA64

Airworthiness Directives; Pacific Aerospace Corporation Ltd. Model 750XL Airplanes

AGENCY: Federal Aviation Administration (FAA), Department of Transportation (DOT).

ACTION: Notice of proposed rulemaking (NPRM).

SUMMARY: We propose to adopt a new airworthiness directive (AD) for certain Pacific Aerospace Corporation Ltd. Model 750XL airplanes. This proposed AD would require you to inspect the condition of the insulation of the wiring adjacent to the electrical plugs mounted in the left-hand (LH) and right-hand (RH) sides of the forward end of the cockpit center console for signs of abrasion and arcing. If you find evidence of abrasion or arcing, this proposed AD would require you to replace the affected wire(s) and secure the wires away from the back shells of the electrical plugs. This proposed AD results from mandatory continuing airworthiness information (MCAI) issued by the airworthiness authority for New Zealand. We are proposing this AD to detect and correct damaged wires on the LH and RH sides of the forward end of the cockpit center console, which could result in short-circuiting of the related wiring. This could lead to electrical failure of affected systems and potential fire in the cockpit.

DATES: We must receive comments on this proposed AD by April 24, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact Pacific Aerospace Corporation Ltd., Hamilton Airport, Private Bag HN 3027, Hamilton, New Zealand; telephone: 011 (64) 7-843-6144; fax: 011 (64) 7-843-6134.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

We invite you to send any written relevant data, views, or arguments regarding this proposed airworthiness directive (AD). Send your comments to an address listed under the ADDRESSES section. Include the docket number, “FAA-2006-24018; Directorate Identifier 2006-CE-15-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

The Civil Aviation Authority (CAA), which is the airworthiness authority for New Zealand, notified the Federal Aviation Administration (FAA) that an unsafe condition may exist on certain Pacific Aerospace Corporation Ltd. (Pacific Aerospace) Model 750XL airplanes. The CAA reports an incident in which short-circuiting of the wiring in the cockpit center console occurred.

Abrasion of the wiring insulation caused by the fasteners of the electrical plug back-shells located in the cockpit center console resulted in the short-circuit.

This condition, if not corrected, could result in short-circuiting of the related wiring in the forward end of the cockpit center console. This could lead to electrical failure of affected systems and potential fire in the cockpit.

Relevant Service Information

We have reviewed Pacific Aerospace Corporation Mandatory Service Bulletin No. PACSB/XL/016, Issue 1, Date Issued: September 23, 2005.

The service information describes procedures for:

• Inspecting the condition of the insulation of the wiring adjacent to the electrical plugs mounted in the left-hand (LH) and (RH) right-hand sides of the forward end of the cockpit center console for signs of abrasion and arcing;

• Replacing the affected wire(s) if any evidence of abrasion or arcing is found; and

• Securing the wires away from the back shells of the electrical plugs.

Foreign Airworthiness Authority Information

The CAA classified this service bulletin as mandatory and issued New Zealand AD Number DCA/750XL/6, Effective Date: December 1, 2005, to ensure the continued airworthiness of these airplanes in New Zealand.

These Pacific Aerospace Model 750XL airplanes are manufactured in New Zealand and are type-certificated for operation in the United States under the provisions of section 21.29 of the Federal Aviation Regulations (14 CFR 21.29) and the applicable bilateral airworthiness agreement.

Under this bilateral airworthiness agreement, the CAA has kept us informed of the situation described above.

FAA's Determination and Requirements of the Proposed AD

We are proposing this AD because we have examined the CAA's findings, evaluated all information and determined the unsafe condition described previously is likely to exist or develop on other products of the same type design that are certificated for operation in the United States.

This proposed AD would require you to inspect the condition of the insulation of the wiring adjacent to the electrical plugs mounted in the LH and RH sides of the forward end of the cockpit center console for signs of abrasion and arcing. If any evidence of abrasion or arcing is found, this proposed AD would require you to replace the affected wire(s) and secure the wires away from the back shells of the electrical plugs.

Costs of Compliance

We estimate that this proposed AD would affect 5 airplanes in the U.S. registry.

We estimate the following costs to do the proposed inspection:

Labor cost | Parts cost | Total cost per airplane | Total cost on U.S. operators
4 work hours × $80 per hour = $320 | Not applicable | $320 | $320 × 5 = $1,600

We estimate the following costs to do any necessary replacements that would be required based on the results of the proposed inspection. We have no way of determining the number of airplanes that may need this replacement:

Labor cost | Parts cost | Total cost per airplane
28 work hours × $80 per hour = $2,240 | $200 | $2,440

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Pacific Aerospace Corporation Ltd.: Docket No. FAA-2006-24018; Directorate Identifier 2006-CE-15-AD.

Comments Due Date

(a) We must receive comments on this airworthiness directive (AD) action by April 24, 2006.

Affected ADs

(b) None.

Applicability

(c) This AD affects Model 750XL airplanes, serial numbers 110 through 120, that are certificated in any category.

Unsafe Condition

(d) This AD results from mandatory continuing airworthiness information (MCAI) issued by the airworthiness authority for New Zealand. We are issuing this AD to detect and correct damaged wires on the left-hand (LH) and right-hand (RH) sides of the forward end of the cockpit center console, which could result in short-circuiting of the related wiring. This condition could lead to electrical failure of affected systems and potential fire in the cockpit.

Compliance

(e) To address this problem, you must do the following, unless already done:

Actions | Compliance | Procedures
(1) Inspect the condition of the insulation of the wiring adjacent to the electrical plugs mounted in the LH and RH sides of the forward end of the cockpit center console for signs of abrasion and arcing | Within the next 50 hours time-in-service (TIS) after the effective date of this AD | Follow Pacific Aerospace Corporation Mandatory Service Bulletin No. PACSB / XL / 016, Issue 1, Date Issued: September 23, 2005.
(2) If you find any evidence of abrasion or arcing, replace the affected wire(s) and secure the wires away from the back shells of the electrical plugs | Before further flight after the inspection required in paragraph (e)(1) of this AD | Follow Pacific Aerospace Corporation Mandatory Service Bulletin No. PACSB / XL / 016, Issue 1, Date Issued: September 23, 2005.
(3) If you do not find any evidence of abrasion or arcing, secure the wires away from the back shells of the electrical plugs | Before further flight after the inspection required in paragraph (e)(1) of this AD | Follow Pacific Aerospace Corporation Mandatory Service Bulletin No. PACSB / XL / 016, Issue 1, Date Issued: September 23, 2005.

Alternative Methods of Compliance (AMOCs)

(f) The Manager, Standards Office, Small Airplane Directorate, Federal Aviation Administration (FAA), ATTN: Karl Schletzbaum, Aerospace Engineer, FAA, Small Airplane Directorate, 901 Locust, Room 301, Kansas City, Missouri 64106; telephone: (816) 329-4146; fax: (816) 329-4090, has the authority to approve AMOCs for this AD, if requested using the procedures found in 14 CFR 39.19.

Related Information

(g) New Zealand AD No. DCA/750XL/6, Effective Date: December 1, 2005, also addresses the subject of this AD. To get copies of the documents referenced in this AD, contact Pacific Aerospace Corporation Ltd., Hamilton Airport, Private Bag HN 3027, Hamilton, New Zealand; telephone: 011 (64) 7-843-6144; facsimile: 011 (64) 7-843-6134. To view the AD docket, go to the Docket Management Facility; U.S. Department of Transportation, 400 Seventh Street, SW., Nassif Building, Room PL-401, Washington, DC, or on the Internet at http://dms.dot.gov. The docket number is Docket No. FAA-2006-24018; Directorate Identifier 2006-CE-15-AD.

Issued in Kansas City, Missouri, on March 20, 2006.
Kim Smith,
Small Airplane Directorate, Aircraft Certification Service.

[FR Doc. E6-4386 Filed 3-24-06; 8:45 am]

BILLING CODE 4910-13-P